DEPARTMENT OF ENERGY

Federal Energy Regulatory Commission

[Docket No. PL07-2-000]

Composition of Proxy Groups for Determining Gas and Oil Pipeline Return on Equity; Notice of Extension of Time To File Comments and Rescheduling of Technical Conference

December 13, 2007.

On November 15, 2007, the Commission issued a notice requesting additional comments in the captioned proceeding solely on the issue of master limited partnership growth rates by December 14, 2007.¹ The November 15 notice also scheduled a technical conference for further consideration of that one issue for January 8, 2008, and provided for post-technical conference comments to be filed by January 25, 2008. On December 12, 2007, the National Association of Publicly Traded Partnerships filed a motion requesting that the deadline for the initial comments be extended from December 14, 2007 to December 21, 2007.

¹ Composition of Proxy Groups for Determining Gas and Oil Pipeline Return on Equity, 121 FERC ¶ 61,165 (2007).

Notice is hereby given that the requested extension of time for filing the initial comments until December 21, 2007 is granted. In light of this extension, notice is also given that the technical conference is rescheduled from January 8, 2008 to January 23, 2008. The deadline for the filing of the post-conference comments is extended to February 11, 2008.

Kimberly D. Bose,
Secretary.

[FR Doc. E7-24665 Filed 12-19-07; 8:45 am]

BILLING CODE 6717-01-P